DEPARTMENT OF TRANSPORTATION

Federal Aviation Administration

14 CFR Part 39

[Docket No. FAA-2009-1186; Directorate Identifier 2009-CE-065-AD]

RIN 2120-AA64

Airworthiness Directives; Cessna Aircraft Company (Type Certificate Previously Held by Columbia Aircraft Manufacturing (Previously the Lancair Company)) Models LC40-550FG, LC41-550FG, and LC42-550FG Airplanes

AGENCY: Federal Aviation Administration (FAA), DOT.

ACTION: Supplemental notice of proposed rulemaking (NPRM); reopening of comment period.

SUMMARY: We are revising an earlier proposed airworthiness directive (AD) for the products listed above. That NPRM proposed to retain the inspection requirements of AD 2009-09-09 and add a terminating action for the repetitive inspection requirements. That NPRM resulted from the manufacturer developing a modification that, when incorporated, would terminate the repetitive inspections required by AD 2009-09-09. Since we issued the earlier NPRM, the manufacturer revised the service information to include additional airplane serial numbers into the Effectivity section and revised the modification kit instructions. This action revises that NPRM by adding airplanes to the Applicability section and incorporating new service information. We are proposing this supplemental NPRM to retain the inspection requirements of AD 2009-09-09 and add a terminating action for the repetitive inspection requirements using the revised service information. Since these actions impose an additional burden over that proposed in the NPRM, we are reopening the comment period to allow the public the chance to comment on these proposed changes.

DATES: We must receive comments on this supplemental NPRM by December 13, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Cessna Aircraft Company, Product Support, P.O. Box 7706; Wichita, Kansas 67277; telephone: (316) 517-5800; fax: (316) 942-9006; Internet: http://www.cessna.com. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Gary Park, Aerospace Engineer, Wichita Aircraft Certification Office, FAA, 1801 Airport Road, Room 100, Wichita, Kansas 67209; telephone: (316) 946-4123; fax: (316) 946-4107; e-mail: gary.park@faa.gov.

SUPPLEMENTARY INFORMATION:

Comments Invited

We invite you to send any written relevant data, views, or arguments about this proposed AD. Send your comments to an address listed under the ADDRESSES section. Include “Docket No. FAA-2009-1186; Directorate Identifier 2009-CE-065-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an airworthiness directive (AD) that would apply to certain Cessna Aircraft Company (Cessna) Models LC40-550FG, LC41-550FG, and LC42-550FG airplanes. That NPRM was published in the Federal Register on December 17, 2009 (74 FR 66927). That NPRM proposed to supersede AD 2009-09-09 (74 FR 19873, April 30, 2009) with a new AD that would retain the inspection requirements of AD 2009-09-09 and add a terminating action for the repetitive inspection requirements.

Actions Since Previous NPRM Was Issued

Since we issued the previous NPRM, the manufacturer revised the service information to include additional airplane serial numbers into the Effectivity section and revised the modification kit instructions.

Comments

We gave the public the opportunity to comment on the original NPRM. We received no comments on that NPRM or on the determination of the cost to the public.

FAA's Determination

We are proposing this supplemental NPRM because we evaluated all the relevant information and determined the unsafe condition described previously is likely to exist or develop in other products of the same type design. Certain changes described above expand the scope of the original NPRM. As a result, we have determined that it is necessary to reopen the comment period to provide additional opportunity for the public to comment on this supplemental NPRM.

Proposed Requirements of the Supplemental NPRM

This supplemental NPRM would require retaining the inspection requirements of AD 2009-09-09 and adding a terminating action for the repetitive inspection requirements using the revised service information.

Cessna has issued Single Engine Service Bulletin SB09-27-01, Revision 3, dated July 20, 2010, which describes procedures for repetitively inspecting the rudder hinges and the rudder hinge brackets for damage, i.e., cracking, deformation, and discoloration. The service information also describes procedures for incorporating Cessna Single Engine Modification Kit MK400-07-01A, dated July 20, 2010, which when incorporated, will terminate the required repetitive inspections.

Costs of Compliance

We estimate that this proposed AD affects 790 airplanes of U.S. registry. We estimate the following costs to comply with this proposed AD:

Estimated Costs
Action | Labor cost | Parts cost | Cost per product | Cost on U.S. operators
Inspecting the rudder hinges and rudder hinge brackets for damage with rudder removed (affects 570 airplanes) | 1.5 work-hours × $85 per hour = $127.50 per inspection cycle | Not applicable | $127.50 per inspection cycle | $72,675 per inspection cycle.
Inspecting the rudder hinges and rudder hinge brackets for damage without rudder removed (affects 570 airplanes) | .5 work-hour × $85 per hour = $42.50 per inspection cycle | Not applicable | $42.50 per inspection cycle | $24,225 per inspection cycle.
Incorporating the modification kit for Models LC40-550FG and LC42-550FG airplanes (affects 247 airplanes) | 1 work-hour × $85 per hour = $85 | $739 | $824 | $203,528.
Incorporating the modification kit for Model LC41-550FG airplanes (affects 523 airplanes) | 1 work-hour × $85 per hour = $85 | $848 | $933 | $487,959.
Inspecting the rudder hinge and the rudder brackets attachment hardware for correct thread engagement (affects 20 airplanes) | .5 work-hour × $85 per hour = $42.50 | Not applicable | $42.50 | $850.
Inspecting the rudder travel (affects 20 airplanes) | 1 work-hour × $85 per hour = $85 | Not applicable | $85 | $1,700.

We estimate the following costs to do any necessary repairs that would be required based on the results of the proposed inspection of the rudder hinge and the rudder brackets attachment hardware for correct thread engagement and the rudder travel. We have no way of determining the number of aircraft that might need these repairs:

On-Condition Costs
Action | Labor cost | Parts cost | Cost per product
Repair the rudder hinge and the rudder brackets attachment hardware thread engagement (could affect 20 airplanes) | .5 work-hour × $85 per hour = $42.50 | $14 | $56.50
Repair the rudder travel (could affect 20 airplanes) | .5 work-hour × $85 per hour = $42.50 | 14 | 56.50

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company (Type Certificate Previously Held by Columbia Aircraft Manufacturing (Previously The Lancair Company)): Docket No. FAA-2009-1186; Directorate Identifier 2009-CE-065-AD.

Comments Due Date

(a) We must receive comments by December 13, 2010.

Affected ADs

(b) This AD supersedes AD 2009-09-09, Amendment 39-15895.

Applicability

(c) This AD applies to the following Cessna Aircraft Company (type certificate previously held by Columbia Aircraft Manufacturing (previously The Lancair Company)) airplane models and serial numbers that are certificated in any category:

Group 1 Airplanes
Model | Serial Nos.
LC40-550FG (300) | 40001, 40002, and 40004 through 40079.
LC41-550FG (400) | 41001 through 41569, 41571 through 41800, 411001 through 411087, 411089 through 411110, 411112 through 411138, 411140, 411142, and 411147.
LC42-550FG (350) | 42001 through 42009, 42011 through 42558, 42560 through 42569, 421001 through 421013, 421015 through 421017, and 421019.

Group 2 Airplanes
Model | Serial Nos.
LC41-550FG (400) | 41570, 411088, 411111, 411139, 411141, 411143 through 411146, and 411148 through 411153.
LC42-550FG (350) | 42010, 42559, 421014, 421018, and 421020.

Subject

(d) Joint Aircraft System Component (JASC)/Air Transport Association (ATA) of America Code 55, Stabilizers.

Unsafe Condition

(e) This AD is the result of reports received of a cracked lower rudder hinge bracket on two of the affected airplanes. We are issuing this AD to detect and correct damage, i.e., cracking, deformation, and discoloration, in the rudder hinges and the rudder hinge brackets, which could result in failure of the rudder. This failure could lead to loss of control.

Compliance

(f) To address this problem, you must do the following, unless already done:

(1) For Group 1 airplanes specified in paragraph (c) of this AD: Using the compliance times specified in table 1 of this AD, inspect the rudder hinges and rudder hinge brackets for damage, i.e., cracking, deformation, and discoloration. Do the inspections following Cessna Single Engine Service Bulletin SB09-27-01, dated April 13, 2009; Cessna Single Engine Service Bulletin SB09-27-01, Revision 2, dated November 23, 2009; or Cessna Single Engine Service Bulletin SB09-27-01, Revision 3, dated July 20, 2010.

Table 1—Inspection Compliance Times
Condition | Initially inspect . . . | Repetitively inspect . . .
(i) For airplanes with 25 hours time-in-service (TIS) or more as of May 11, 2009 (the effective date of AD 2009-09-09): | With the rudder removed and using 10× visual magnification, inspect all three rudder hinges and rudder hinge brackets at whichever of the following occurs first: | Thereafter inspect as follows until the modification required in paragraph (f)(5) of this AD is done:
| (A) Within the next 10 hours TIS after May 11, 2009 (the effective date of AD 2009-09-09); or | (A) Every 25 hours TIS or 3 months, whichever occurs first, without removing the rudder, visually inspect all three rudder hinges and rudder hinge brackets; and
| (B) Within the next 30 days after May 11, 2009 (the effective date of AD 009-09-09) | (B) Every 50 hours TIS or 6 months, whichever occurs first, with the rudder removed and using 10× visual magnification, inspect all three rudder hinges and rudder hinge brackets.
(ii) For airplanes with less than 25 hours TIS as of May 11, 2009 (the effective date of AD 2009-09-09): | Without removing the rudder, visually inspect all three rudder hinges and rudder hinge brackets, at whichever of the following occurs later: | Thereafter inspect as follows until the modification required in paragraph (f)(5) of this AD is done:
| (A) Upon accumulating 25 hours TIS; or | (A) Every 25 hours TIS or 3 months, whichever occurs first, without removing the rudder, visually inspect all three rudder hinges and rudder hinge brackets; and
| (B) Within the next 10 hours TIS after May 11, 2009 (the effective date of AD 2009-09-09) | (B) Every 50 hours TIS or 6 months, whichever occurs first, with the rudder removed and using 10× visual magnification, inspect all three rudder hinges and rudder hinge brackets.

(2) For Group 1 airplanes specified in paragraph (c) of this AD: Before further flight after any inspection required in paragraphs (f)(1)(i) or (f)(1)(ii) of this AD in which damage is found on any of the rudder hinges and/or rudder hinge brackets, incorporate Cessna Single Engine Modification Kit MK400-27-01, dated November 23, 2009; or Cessna Single Engine Modification Kit MK400-27-01A dated July 20, 2010, as specified in Cessna Single Engine Service Bulletin SB09-27-01, Revision 2, dated November 23, 2009; and Cessna Single Engine Service Bulletin SB09-27-01, Revision 3, dated July 20, 2010. Incorporating either Modification Kit MK400-27-01 or Modification Kit MK400-27-01A, terminates the repetitive inspections required in paragraphs (f)(1)(i) and (f)(1)(ii) of this AD.

(3) For Group 1 airplanes specified in paragraph (c) of this AD: If the repetitive inspections required in paragraphs (f)(1)(i) and (f)(1)(ii) of this AD become due at the same time, credit for both inspections will be given by doing the rudder removal and 10× visual inspection.

(4) For Group 1 airplanes specified in paragraph (c) of this AD: Within the next 24 months after the effective date of this AD, incorporate Cessna Single Engine Modification Kit MK400-27-01, dated November 23, 2009; or Cessna Single Engine Modification Kit MK400-27-01A, dated July 20, 2010, as specified in Cessna Single Engine Service Bulletin SB09-27-01, Revision 2, dated November 23, 2009; and Cessna Single Engine Service Bulletin SB09-27-01, Revision 3, dated July 20, 2010, unless already done as specified in paragraph (f)(2) of this AD. Incorporating either Modification Kit MK400-27-01 or Modification Kit MK400-27-01A, terminates the repetitive inspections required in paragraphs (f)(1)(i) and (f)(1)(ii) of this AD.

(5) For Group 1 airplanes specified in paragraph (c) of this AD: At any time after the initial inspections required in paragraphs (f)(1)(i) and (f)(1)(ii) of this AD, as long as no damage is found, and no later than the compliance time specified in paragraph (f)(4) of this AD, you may incorporate Cessna Single Engine Modification Kit MK400-27-01, dated November 23, 2009; or Cessna Single Engine Modification Kit MK400-27-01A, dated July 20, 2010, as specified in Cessna Single Engine Service Bulletin SB09-27-01, Revision 2, dated November 23, 2009; and Cessna Single Engine Service Bulletin SB09-27-01, Revision 3, dated July 20, 2010, to terminate the repetitive inspections required in paragraphs (f)(1)(i) and (f)(1)(ii) of this AD.

(6) For any Group 1 airplane with Cessna Single Engine Service Bulletin SB09-27-01, Revision 1, dated August 31, 2009, already incorporated and for all Group 2 airplanes: Within the next 30 days after the effective date of this AD, inspect for proper rudder hinge and rudder bracket hardware thread engagement and inspect the rudder travel. Do these inspections following the Accomplishment Instructions in Cessna Single Engine Modification Kit MK400-27-01, dated November 23, 2009; or the Accomplishment Instructions in Cessna Single Engine Modification Kit MK400-27-01A, dated July 20, 2010.

(i) Before further flight after the inspection required in paragraph (f)(6) of this AD, if any discrepancies are found in the rudder hinge or rudder bracket hardware, replace the affected hardware. Do the replacements following the Accomplishment Instructions in Cessna Single Engine Modification Kit MK400-27-01, dated November 23, 2009; or the Accomplishment Instructions in Cessna Single Engine Modification Kit MK400-27-01A, dated July 20, 2010.

(ii) Before further flight after the inspection required in paragraph (f)(6) of this AD, if the rudder travel is outside the limits specified in the Accomplishment Instructions in Cessna Single Engine Modification Kit MK400-27-01, dated November 23, 2009; or the Accomplishment Instructions in Cessna Single Engine Modification Kit MK400-27-01A, dated July 20, 2010, reinstall the rudder following the Accomplishment Instructions in either Cessna Single Engine Modification Kit MK400-27-01, dated November 23, 2009; or Cessna Single Engine Modification Kit MK400-27-01A, dated July 20, 2010.

(iii) After the inspection and any necessary corrective actions required in paragraphs (f)(6), (f)(6)(i), and (f)(6)(ii) of this AD, no further action is required.

Credit for Actions Accomplished in Accordance With Previous Service Information

(g) For all airplanes specified in paragraph (c) of this AD: As of the effective date of this AD, if Cessna Single Engine Service Bulletin SB09-27-01, Revision 2, dated November 23, 2009, has been already been incorporated, no further action is required.

Alternative Methods of Compliance (AMOCs)

(h)(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

(3) AMOCs approved for AD 2009-09-09 are approved for this AD.

Related Information

(i) For more information about this AD, contact Gary Park, Aerospace Engineer, Wichita ACO, FAA, 1801 Airport Road, Room 100, Wichita, Kansas 67209; telephone: (316) 946-4123; fax: (316) 946-4107; e-mail: gary.park@faa.gov.

(j) For service information identified in this AD, contact Cessna Aircraft Company, Product Support, P.O. Box 7706; Wichita, Kansas 67277; telephone: (316) 517-5800; fax: (316) 942-9006; Internet: http://www.cessna.com. You may review copies of the referenced service information at the FAA, Small Airplane Directorate, 901 Locust, Kansas City, Missouri 64106. For information on the availability of this material at the FAA, call 816-329-4148.

Issued in Kansas City, Missouri, on October 21, 2010.
Christina L. Marsh,
Acting Manager, Small Airplane Directorate, Aircraft Certification Service.

[FR Doc. 2010-27212 Filed 10-26-10; 8:45 am]

BILLING CODE 4910-13-P